ENVIRONMENTAL PROTECTION AGENCY

[FRL-7626-2]

Proposed Amendment to Second Consent Decree, Clean Air Act Citizen Suit

AGENCY: Environmental Protection Agency (EPA).

ACTION: Notice of proposed amendment to second consent decree regarding Portland, Maine; request for public comment.

SUMMARY: In accordance with section 113(g) of the Clean Air Act, as amended (“Act”), 42 U.S.C. 7413(g), notice is hereby given of a proposed amendment to the second partial consent decree, to address a lawsuit filed by Sierra Club and the Group Against SMOG and Pollution in the District Court for the District of Columbia: Sierra Club and Group Against SMOG and Pollution, Inc. v. Leavitt, No. 1:00CV02206 (D. D.C.). On or about September 14, 2000, Sierra Club and the Group Against SMOG and Pollution filed a complaint seeking to require EPA to take final actions regarding determinations of whether several PM-10 and ozone nonattainment areas had attained the pertinent air quality standards by their attainment dates. EPA and the plaintiffs previously settled the claims regarding a number of the nonattainment areas, including Portland, Maine, in prior consent decrees. EPA and the plaintiffs are now proposing to amend the consent decree concerning Portland to extend the date for EPA's final action regarding Portland. Under the terms of the proposed amendment to the second consent decree, EPA will sign for publication in the Federal Register the Administrator's final determination pursuant to 42 U.S.C. 7511(b)(2) on whether the Portland area did or did not attain the 1-hour national ambient air quality standards for ozone by the applicable attainment date.

DATES: Written comments on the proposed amendment to second consent decree must be received by March 25, 2004.

ADDRESSES: Submit your comments, identified by docket ID number OGC-2004-0003, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in Wordperfect or ASCII file, avoiding the use of special characters and any form of encryption, and may be mailed to the mailing address above.

FOR FURTHER INFORMATION CONTACT: Kevin McLean, Air and Radiation Law Office (2344A), Office of General Counsel, U.S. Environmental Protection Agency, 1200 Pennsylvania Ave., NW., Washington, DC 20460. telephone: (202) 564-5564.

SUPPLEMENTARY INFORMATION:

I. Additional Information About the Proposed Amendment to Second Consent Decree

The proposed amendment to the second consent decree expects that the Maine Department of Environmental Protection (“DEP”) will notify EPA in writing by March 1, 2004 that it has issued and made publicly available a study, including supporting data on the feasibility of implementing the California Zero Emission Vehicle (“ZEV”) mandate in Maine. In addition, the proposed amendment to the second consent decree expects that the Maine DEP will submit for EPA's approval eight specific revisions to its State Implementation Plan by dates set forth in the consent decree. The proposed amendment to the consent decree provides that if Maine DEP does not make its ZEV study publicly available by the specified date or if EPA does not find the SIP revisions complete or approve them by specified dates, EPA is to take final action regarding the determination of attainment for Portland. If, however, the ZEV study is made publicly available and EPA approves all of the eight SIP revisions, then EPA is to have no further obligations under the consent decree.

For a period of thirty (30) days following the date of publication of this notice, the Agency will receive written comments relating to the proposed amendment to second consent decree from persons who were not named as parties or interveners to the litigation in question. EPA or the Department of Justice may withdraw or withhold consent to the proposed amendment to second consent decree if the comments disclose facts or considerations that indicate that such consent is inappropriate, improper, inadequate, or inconsistent with the requirements of the Act. Unless EPA or the Department of Justice determine, based on any comment which may be submitted, that consent to the amendment to the second consent decree should be withdrawn, the terms of the decree will be affirmed.

II. Additional Information About Commenting on the Proposed Amendment to Second Consent Decree

A. How Can I Get a Copy of the Amendment to the Second Consent Decree?

EPA has established an official public docket for this action under Docket ID No. OGC-2004-0003 which contains a copy of the amendment to second consent decree. The official public docket is available for public viewing at the Office of Environmental Information (OEI) Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

It is important to note that EPA's policy is that public comments, whether submitted electronically or in paper, will be made available for public viewing in EPA's electronic public docket as EPA receives them and without change, unless the comment contains copyrighted material, CBI, or other information whose disclosure is restricted by statute. Information claimed as CBI and other information whose disclosure is restricted by statute is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through EPA's electronic public docket, your e-mail address is automatically captured and included as part of the comment that is placed in the official public docket, and made available in EPA's electronic public docket.

Dated: February 17, 2004.
Lisa K. Friedman,
Associate General Counsel, Air and Radiation Law Office, Office of General Counsel.

[FR Doc. 04-3935 Filed 2-23-04; 8:45 am]

BILLING CODE 6560-50-P